DEPARTMENT OF THE INTERIOR

Fish and Wildlife Service

Recovery Plan for Fritillaria gentneri (Gentner's Fritillary)

AGENCY: Fish and Wildlife Service, Interior.

ACTION: Notice of document availability.

SUMMARY: The U.S. Fish and Wildlife Service (“we”), announce the availability of the final Recovery Plan for Fritillaria gentneri (Gentner's fritillary). This plan includes specific criteria and measures to be taken in order to effectively recover the species to the point that delisting is warranted.

ADDRESSES: Copies of this final recovery plan are available by written request to the Field Supervisor, U.S. Fish and Wildlife Service, Oregon Fish and Wildlife Office, 2600 SE. 98th Avenue, Suite 100, Portland, Oregon 97266-1398. An electronic copy of this recovery plan is also available at: http://endangered.fws.gov/recovery/index.html#plans.

FOR FURTHER INFORMATION CONTACT: Andy Robinson, Fish and Wildlife Biologist, at the Portland address above (telephone: 503-231-6179).

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice, and an opportunity for public review and comment, be provided during recovery plan development. The draft recovery plan for Fritillaria gentneri was available for public comment from November 22, 2002 through January 21, 2003 (67 FR 70452). Information presented during the public comment period has been considered in the preparation of this final recovery plan, and is summarized in the appendix to the recovery plan. We will forward substantive comments regarding recovery plan implementation to the appropriate Federal or other entities so they can take these comments into account in the course of implementing recovery actions.

Fritillaria gentneri, also known as Gentner's fritillary and/or Gentner's mission-bells, is a rare, red-flowered member of the lily family (Liliaceae). This species is found primarily in very small, scattered occurrences in Jackson and Josephine Counties in southwestern Oregon; one small additional population was recently discovered in northern California, near the Oregon border. Fritillaria gentneri is threatened by a variety of factors including habitat loss associated with rapidly expanding residential and agricultural development, alteration of habitat by invasive weeds and successional encroachment by trees and brush, habitat disturbance from timber harvest and recreational activities, and vulnerability associated with extremely small population sizes. Other potential threats to Fritillaria gentneri include bulb collecting for gardens, and herbivory by deer and livestock.

Recovery of Fritillaria gentneri will be based on the conservation of the species through protected populations (“Fritillaria management areas”) distributed in natural densities across the historical range of the species in four designated recovery units. Recovery units are geographically bounded areas containing extant Fritillaria gentneri populations that are the focus of recovery actions. Recovery units include lands both essential and not essential to the long-term conservation of Fritillaria gentneri.

The overall objective of this recovery plan is to reduce the threats to Fritillaria gentneri to the point where it can be reclassified (downlisted) to threatened, with the ultimate goal of being removed from the Act's protection entirely (delisted). The recovery measures identified include: (1) Establishing, managing, and maintaining a minimum number of Fritillaria management areas within the four designated recovery units, to be achieved through protection of existing populations, population augmentation, and reintroduction at historically occupied sites; (2) providing information to private landowners to assist with the identification of Fritillaria gentneri and management of its habitat; (3) conducting surveys and research essential to the conservation of the species; and (4) development of off-site germplasm banks to maintain reproductive materials.

Authority: The authority for this action is section 4(f) of the Endangered Species Act, 16 U.S.C. 1533(f).

Dated: July 21, 2003.
David J. Wesley,
Acting Regional Director, Region 1, Fish and Wildlife Service.

[FR Doc. 03-22000 Filed 8-27-03; 8:45 am]

BILLING CODE 4310-55-P